DEPARTMENT OF TRANSPORTATION

Federal Aviation Administration

14 CFR Part 39

[Docket No. FAA-2007-27283; Directorate Identifier 2007-NE-05-AD; Amendment 39-15046; AD 2007-10-05]

RIN 2120-AA64

Airworthiness Directives; General Electric Company (GE) GE90 Series Turbofan Engines

AGENCY: Federal Aviation Administration (FAA), Department of Transportation (DOT).

ACTION: Final rule; request for comments.

SUMMARY: The FAA is adopting a new airworthiness directive (AD) for GE GE90-110B1, -113B, and -115B series turbofan engines with certain Turbine Center Frames (TCFs) installed. This AD requires removing certain TCFs, listed by part number (P/N) in this AD, from service before exceeding 14,300 flight cycles. This AD results from a report that GE inadvertently omitted some TCF P/Ns from the Airworthiness Limitations Section (ALS) of the engine manual. We are issuing this AD to prevent structural failure of the TCF with uncontained failure of low pressure turbine (LPT) rotating parts. Uncontained failure of the LPT rotating parts could result in damage to the airplane and possible loss of control of the airplane.

DATES: This AD becomes effective June 14, 2007.

We must receive any comments on this AD by July 9, 2007.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

FOR FURTHER INFORMATION CONTACT: Antonio Cancelliere, Aerospace Engineer, Engine Certification Office, FAA, Engine and Propeller Directorate, 12 New England Executive Park, Burlington, MA 01803; telephone (781) 238-7751; fax (781) 238-7199.

SUPPLEMENTARY INFORMATION: On January 12, 2007, we received a report from GE that they had inadvertently omitted six TCFs P/Ns from the ALS of the engine manual. GE introduced an improved, redesigned TCF after the initial engine certification. GE identified the new designs with new P/Ns. The TCF is a life-limited part. Engine life-limited parts are listed in the ALS of the Engine Manual and must be removed from service at or before reaching their life limit. Because GE has not included in the ALS all the TCF P/Ns that are currently in service, operators might not be tracking the accumulated flight cycles on those P/N TCFs. Exceeding the TCF life limit will exceed the low-cycle fatigue design capability of the material structure. If the TCF fails, the LPT structure could fail with rotating parts liberating and impacting the fuselage of the airplane. This condition, if not corrected, could result in loss of control of the airplane.

FAA's Determination and Requirements of This AD

Although no airplanes that are registered in the United States, use these engines, the possibility exists that the engines could be used on airplanes that are registered in the United States in the future. The unsafe condition described previously is likely to exist or develop on other engines of the same type design. We are issuing this AD to prevent structural failure of the TCF with uncontained failure of LPT rotating parts. Uncontained failure of the LPT rotating parts could result in damage to the airplane and possible loss of control of the airplane. This AD requires removing from service certain TCFs, listed by P/N in this AD, at or before accumulating 14,300 flight cycles.

FAA's Determination of the Effective Date

Since there are currently no domestic operators of this engine model, notice and opportunity for public comment before issuing this AD are unnecessary. A situation exists that allows the immediate adoption of this regulation.

Comments Invited

This AD is a final rule that involves requirements affecting flight safety and was not preceded by notice and an opportunity for public comment; however, we invite you to send us any written relevant data, views, or arguments regarding this AD. Send your comments to an address listed under ADDRESSES. Include “AD Docket No. FAA-2007-27283; Directorate Identifier 2007-NE-05-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc). You may review the DOT's complete Privacy Act Statement in the Federal Register published on April 11, 2000 (65 FR 19477-78) or you may visit http://dms.dot.gov.

Examining the AD Docket

You may examine the docket that contains the AD, any comments received, and any final disposition in person at the Docket Management Facility between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2007-10-05 General Electric Company: Amendment 39-15046 Docket No. FAA-2007-27283; Directorate Identifier 2007-NE-05-AD.

Effective Date

(a) This airworthiness directive (AD) becomes effective June 14, 2007.

Affected ADs

(b) None.

Applicability

(c) This AD applies to General Electric Company (GE) GE90-110B1, -113B, and -115B series engines with a Turbine Center Frame (TCF) that has a part number listed in the following Table 1 of this AD installed. These engines are installed on, but not limited to, Boeing 777-200LR and 777-300ER series airplanes.

Table 1.—Turbine Center Frame Life Limit by P/N
Part No. | Life limitation in flight cycles
2061M60G09 | 14,300
2061M60G22 | 14,300
2061M60G23 | 14,300
2061M60G24 | 14,300
2061M60G26 | 14,300
2061M60G27 | 14,300

Unsafe Condition

(d) This AD results from a report that GE inadvertently omitted some TCF P/Ns from the Airworthiness Limitations Section (ALS) of the engine manual. We are issuing this AD to prevent structural failure of the TCF with uncontained failure of low pressure turbine (LPT) rotating parts. Uncontained failure of the LPT rotating parts could result in damage to the airplane and possible loss of control of the airplane.

Compliance

(e) You are responsible for having the actions required by this AD performed within the compliance times specified unless the actions have already been done.

Modify the Airworthiness Limitations Section of the Engine Manual

(f) Within 30 days after the effective date of this AD, revise the Airworthiness Limitations Section of the applicable Engine Manual to include the TCF P/Ns and flight cycle limitation specified in Table 1 of this AD.

(g) After the effective date of this AD, except as provided in paragraph (h) of this AD, we will not approve any alternative replacement times for a TCF with a P/N listed in Table 1 of this AD.

Alternative Methods of Compliance

(h) The Manager, Engine Certification Office, has the authority to approve alternative methods of compliance for this AD if requested using the procedures found in 14 CFR 39.19.

Related Information

(i) None.

Issued in Burlington, Massachusetts, on May 3, 2007.
Peter A. White,
Acting Manager, Engine and Propeller Directorate, Aircraft Certification Service.

[FR Doc. E7-8990 Filed 5-9-07; 8:45 am]

BILLING CODE 4910-13-P